DEPARTMENT OF TRANSPORTATION

Federal Railroad Administration

Programmatic Environmental Impact Statement for Passenger Rail Improvements to the Los Angeles to San Diego Rail Corridor

AGENCY: Federal Railroad Administration, (FRA), Department of Transportation (DOT).

ACTION: Notice of intent to prepare an environmental impact statement.

SUMMARY: FRA is issuing this notice to advise the public that FRA will join the California Department of Transportation (Department) in the preparation of a program level environmental impact statement (EIS) and program environmental impact report (EIR) for passenger rail improvements to the Los Angeles to San Diego (LOSSAN) rail corridor. FRA is also issuing this notice to solicit public and agency input into the development of the scope of the EIR/EIS and to advise the public that outreach activities conducted by the Department and its representatives will be considered in the preparation of the EIR/EIS. Alternatives to be evaluated and analyzed in the Program EIR/EIS include (1) take no action (No-Project or No-Build); (2) construction of passenger rail improvements in the LOSSAN rail corridor; and (3) modal alternatives that would include a combination of air and highway improvements. Possible environmental impacts include displacement of commercial and residential properties; disproportionate impacts to minority and low-income populations; community and neighborhood disruption; increased noise along the rail corridor or at airports and along highways; traffic impacts associated with stations or airports; effects to historic properties or archaeological sites; impacts to parks and recreation resources; visual quality effects; exposure to seismic and flood hazards; impacts to water resources, wetlands, and sensitive biological species and habitat; land use compatibility impacts; energy use; and impacts to agricultural lands.

FOR FURTHER INFORMATION CONTACT: For further information regarding the programmatic environmental review, please contact: Mr. Patrick Merrill, Manager, California Department of Transportation, Division of Rail, MS 74, PO Box 942874, Sacramento, CA 94274-0001, (telephone 916-654-7543) or Mr. David Valenstein, Environmental Program Manager, Office of Passenger Programs, Federal Railroad Administration, 1120 Vermont Avenue (Mail Stop 20), Washington, DC 20590, (telephone 202-493-6368).

SUPPLEMENTARY INFORMATION: The Department has determined that improvements to the existing LOSSAN rail corridor may be necessary to meet the expected growth in population and resulting increases in intercity travel demand between Los Angeles and San Diego. As a result of this growth in travel demand, there will be increases in travel delays from the growing congestion on California's highways and at airports. In terms of passenger volumes, the LOSSAN corridor is the second-busiest intercity rail corridor in the nation, after the Northeast Corridor connecting Washington DC, New York and Boston. Amtrak uses the LOSSAN rail corridor for the Pacific Surfliner Service between Los Angeles and San Diego that is supported by the Department. The Southern California Regional Rail Authority also uses the LOSSAN rail Corridor for their Metrolink commuter rail service between Los Angeles and Oceanside and the North County Transit District uses it for their Coaster commuter rail service between Oceanside and San Diego. Finally, the Burlington Northern Santa Fe also uses the LOSSAN rail corridor for freight service.

The California High Speed Rail Authority (Authority) has designated the LOSSAN rail corridor as a potential component of the proposed statewide high speed rail system that the Authority is studying. FRA and the Authority are preparing a separate program EIR/EIS for the proposed statewide train system. The Authority will be considering shared use of the LOSSAN rail corridor and tracks in the program EIR/EIS for the statewide system. The Department has decided to coordinate the public review of proposed improvements to the LOSSAN rail corridor with the Authority's environmental review of the statewide system. The Authority and the Department will share the results of technical studies related to the LOSSAN rail corridor.

Alternatives

An initial system alternatives evaluation will consider all reasonable system alternatives at a broad level of analysis. This analysis will be followed by a more detailed consideration of the most practical and feasible alternatives in the Program EIR/EIS. The alternatives will include:

No-Build Alternative

The take no action (No-Project or No-Build) alternative is defined to serve as the baseline for comparison of all alternatives. The No-Build Alternative represents the state's transportation system (highway, air, and rail) as it exists, and as it would exist after completion of programs or projects currently being implemented. The No-Build Alternative would draw upon the following sources of information:

• State Transportation Improvement Program (STIP)

• Regional Transportation Plans (RTPs) for all modes of travel

• Airport plans

• Passenger rail plans

Passenger Rail Alternative

The LOSSAN Rail Corridor improvements are incremental rail upgrades to the LOSSAN corridor. The upgrade of the LOSSAN rail corridor was previously studied in the Amtrak 20-Year Passenger Transportation Plan issued in March of 2001, which identified major improvements that could be undertaken between San Juan Capistrano and the Santa Fe Depot in downtown San Diego. The improvements to be discussed in the program EIR/EIS include:

• Completion or substantial completion of a second main track in the LOSSAN corridor;

• The consideration of alternative profiles (e.g. trenches, tunnels, viaducts) and/or deviations from the existing LOSSAN corridor in:

• San Juan Capistrano

• San Clemente

• Encinitas

• Del Mar

• Miramar Hill;

• Curve realignment at the Fullerton Junction, the Orange Junction and Dana Point;

• The increase to four main tracks in the corridor between Commerce and Fullerton; and

• Possible alternative profiles (e.g. trenches, tunnels, viaducts), deviations from the existing LOSSAN corridor and/or additional grade-separations as potential mitigation treatments in Orange-Santa Ana, Oceanside and Carlsbad.

FRA and the Department will consider all stations for the existing State-supported Amtrak Surfliner service in the development of LOSSAN rail corridor improvements. These are: LA Union Station, Fullerton, Anaheim, Santa Ana Transportation Center, Irvine Transportation Center, San Juan Capistrano, Oceanside Transportation Center, Solana Beach, and San Diego Santa Fe Depot. Additional stations and improvements to existing stations will be determined based on ridership potential, system-wide needs, and local planning constraints/conditions. Station needs will be coordinated with local and regional planning agencies, and seamless connectivity with other modes of travel will be emphasized. Potential new station locations will be evaluated in the Program EIR/EIS including: San Diego Airport, and University Town Center (La Jolla).

Other Modal Alternatives

There are currently three main options for intercity travel between the major urban areas of San Diego and Los Angeles: vehicles on the highway system, commercial air service, and conventional passenger trains (Amtrak). The FRA and the Department will evaluate a set of Modal/System Alternatives consisting of expansion of highways and airports at a similar level of investment serving the markets identified for the Passenger Rail Alternative, with no substantial change to intercity and commuter rail systems. The modal alternatives will be defined by assigning the expected incremental travel demand forecasted for the 20-year horizon to the state's transportation infrastructure, then identifying alternatives for accommodating that travel demand without passenger rail improvements.

Scoping and Comments

FRA encourages broad participation in the EIR/EIS process during scoping and subsequent review of the resulting environmental documents. Comments and suggestions are invited from all interested agencies and the public at large to insure the full range of issues related to the proposed action and all reasonable alternatives are addressed and all significant issues are identified. In particular, FRA is interested in determining whether there are areas of environmental concern where there might be the potential for significant impacts identifiable at a program level. Public agencies with jurisdiction are requested to advise the FRA and the Department of the applicable permit and environmental review requirements of each agency, and the scope and content of the environmental information that is germane to the agency's statutory responsibilities in connection with the proposed improvements.

Scoping meetings will be advertised locally and are planned for the following major cities along the LOSSAN rail corridor at the dates and times indicated:

• Los Angeles: April 2, 1:30 to 3:30 pm, MTA Bldg, Union Station Room, One Gateway Plaza

• San Clemente: April 2, 6:00 to 8:00 pm, San Clemente Inn, 2600 Avenida de Presidente

• Anaheim: April 3, 10:00 am to 12:00 pm, City Hall West, Gordon Hoyt Conference Center, 201 S. Anaheim Blvd.

• Carlsbad: April 3, 6:00 to 8:00 pm, Carlsbad Senior Center, 799 Pine Street

Persons interested in providing comments on the scope of the program EIR/EIS should do so by April 17, 2002. Comments can be sent in writing to Mr. David Valenstein at the FRA address identified above. Comments may also be addressed to Mr. Patrick Merrill of the Department at their address identified above. Information regarding the environmental review process will also be made available through the Department's rail services Internet site: http://www.amtrakcalifornia.com/. Information and documents regarding technical studies will be made available though the Authority's Internet site: http://www.cahighspeedrail.ca.gov/.

Issued in Washington DC, on March 14, 2002.
Mark E. Yachmetz,
Associate Administrator for Railroad Development.

[FR Doc. 02-6644 Filed 3-19-02; 8:45 am]

BILLING CODE 4910-06-P